DEPARTMENT OF DEFENSE

Department of the Navy

Meeting of the Board of Visitors of Marine Corps University

AGENCY: Department of the Navy, DOD.

ACTION: Notice of open meeting.

SUMMARY: The Board of Visitors of the Marine Corps University (BOV MCU) will meet to review, develop and provide recommendations on all aspects of the academic and administrative policies of the University; examine all aspects of professional military education operations; and provide such oversight and advice as is necessary to facilitate high educational standards and cost effective operations. The Board will be discussing the 2005 accreditation process and the quality enhancement plan, the University's Strategic Plan and Mission Statement, the status of Academic Chairs, Senior Leader Development Program, as well as electing a new Chair and Secretary of the Board. All sessions of the meeting will be open to the public.

DATES: The meeting will be held on Thursday, October 9, 2003, from 8 a.m. to 5 p.m. and on Friday, October 10, 2003, from 8 a.m. to 11:15 a.m.

ADDRESSES: The meeting will be held at the Parris Island, South Carolina, Osprey Inn (Bachelor's Officer Quarters) Osprey Conference Room. The address is Building 289, Parris Island, South Carolina 29905.

FOR FURTHER INFORMATION CONTACT: Mary Lanzillotta, Executive Secretary, Marine Corps University Board of Visitors, 2076 South Street, Quantico, Virginia 22134, telephone number (703) 784-4037.

Dated: September 9, 2003.
E.F. McDonnell,
Major, U.S. Marine Corps, Federal Register Liaison Officer.

[FR Doc. 03-23911 Filed 9-18-03; 8:45 am]

BILLING CODE 3810-FF-P